NATIONAL SCIENCE FOUNDATION

National Science Board, Sunshine Act Meetings; Notice

The National Science Board, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

Agency Holding Meeting: National Science Board.

Date and Time: Tuesday, December 9, 2008, at 8 a.m.; and Wednesday, December 10, 2008 at 8 a.m.

Place: National Science Foundation, 4201 Wilson Blvd. Room 1235, Arlington, VA 22230. All visitors must report to the NSF visitor desk at the 9th and N. Stuart Streets entrance to receive a visitor's badge.

Status: Some portions open, some portions closed.

Open Sessions

December 9, 2008

8 a.m.-8:15 a.m.

8:15 a.m.-11:45 a.m.

2:45 p.m.-4 p.m.

4 p.m.-4:30 p.m.

December 10, 2008

8 a.m.-10:30 a.m.

10:30 a.m.-11:30 a.m.

11:45 a.m.-12 p.m.

1:30 p.m.-3 p.m.

Closed Sessions

December 9, 2008

1 p.m.-2:30 p.m.

2:30 p.m.-2:45 p.m.

December 10, 2008

11:30 a.m.-11:45 a.m.

1 p.m.-1:10 p.m.

1:10 p.m.-1:30 p.m.

Agency Contact: Dr. Robert E. Webber, rwebber@nsf.gov, (703) 292-7000, http://www.nsf.gov/nsb/.

Matters To Be Discussed:

Tuesday, December 9, 2008

Open Session: 8 a.m.-8:15 a.m.

• Chairman's Introduction

• New Member Oath of Office

Committee on Programs and Plans (CPP)

Open Session: 8:15 a.m.-11:45 a.m.

• Approval of September 2008 CPP Minutes

• Committee Chairman's Remarks

• CPP Subcommittee on Polar Issues (SOPI)

○ SOPI Chairman's Remarks

○ Director's Report—Office of Polar Programs

○ September Arctic Ice Cover Report

○ Maintaining High Priority Science Projects in the Face of Budget Constraints

○ Energy Efficiency and Renewable Energy in Polar Stations

• Task Force on Sustainable Energy (SE)

○ SE Co-Chairmen's Remarks

○ Review of Recent Stakeholder Discussions

○ Discussion of Task Force Draft Report

• NSB Information Item: Management & Operations for National Radio Astronomy Observatory (NRAO)

• NSB Information Item: Update on the Ocean Observatories Initiative (OOI Competition)

• NSB Information Item: Update on the Status of the Alaska Regional Research Vessel (AARV)

• NSB Information Item: EPSCoR Program Update

• Discussion Item: Review of MREFC Process

○ NSB Overview

○ NSF Implementation Plan

○ Discussion

• Proposed Changes to Committee Structure

Closed Session: 1 p.m.-2:30 p.m.

• NSB Action Item: National Nanotechnology Infrastructure Network (NNIN)

• Award Recommendations for DataNet

• NSB Action Item: Award Recommendation DataNet-A

• NSB Action Item: Award Recommendation for DataNet-B

Committee on Audit and Oversight (A&O)

Closed Session: 2:30 p.m.-2:45 p.m.

• Pending Investigations

Open Session: 2:45 p.m.-4 p.m.

• Approval of Minutes of the August 13, 2008 Meeting

• Committee Chairman's Opening Remarks

• Results of the FY 2008 NSF Financial Statement Audit

• CFO Update

• Recompetition of Financial Statement Audit Contract

• Audit of Large Facility Operations Agreements: Performance and Evaluation

• The Inspector General Reform Act of 2008: Implications for NSF

Task Force on the NSB 60th Anniversary

Open Session: 4 p.m.-4:30 p.m.

• Approval of Minutes for the August 2008 Meeting

• Approval of Minutes for the October 2008 Teleconference

• Task Force Chairman's Remarks

• Further Discussion of Ideas for the NSB 60th Anniversary

• Draft Criteria for Selection of NSF Researchers/Speakers

Wednesday, December 10, 2008

Committee on Education and Human Resources (EHR)

Open Session: 8 a.m.-10:30 a.m.

• Approval of August 2008 Minutes

• EHR Committee Charge—Proposed Revision

• SEI Committee Charge

• Update on the Next Generation of STEM Innovators Workshop

• Subcommittee on Science and Engineering Indicators (SEI)

○ SEI Subcommittee Chairman's Remarks

○ Revised SEI Chapter Outlines

○ Identifying Reviewers for SEI Draft Chapters

○ Electronic Publication of Appendix Tables (Volume 2)

○ Plans for Indicators Digest

○ Subcommittee Chairman's Summary

Committee on Strategy and Budget (CSB)

Open Session: 10:30 a.m.-11:30 a.m.

• Approval of CSB Minutes, August 12, 2008

• Committee Chairman's Remarks

• CSB Task Force on Cost Sharing (CS)

○ Approval of Minutes

○ Task Force Chairman's Remarks

○ Discussion of Federal Register Request for Public Comments

○ Discussion of Draft Second Report on Cost Sharing

• Long Range Planning Presentation

• Investment Priorities from the 2006 NSF Strategic Plan

Closed Session: 11:30 a.m.-11:45 a.m.

• Status of NSF FY 2010 Budget Development

Executive Committee

Open Session: 11:45 a.m.-12 p.m.

• Approval of Minutes for the August 2008 Meeting

• Executive Committee Chairman's Remarks

• Updates or New Business from Committee Members

Plenary Executive Closed

Closed Session: 1 p.m.-1:10 p.m.

• Approval of September 2008 Minutes

• Approval of Honorary Awards Recipients

Plenary Closed

Closed Session: 1:10 p.m.-1:30 p.m.

• Approval of September 2008 Minutes

• Awards and Agreements

• Closed Committee Reports

Plenary Open

Open Session: 1:30 p.m.-3 p.m.

• Approval of September 2008 Minutes

• Resolution to Close February 2009 Meeting

• Presentation by Mr. Jeffrey Nesbit

• Chairman's Report

• Director's Report

• Open Committee Reports

Ann Ferrante,
Technical Writer/Editor.

[FR Doc. E8-28560 Filed 12-1-08; 8:45 am]

BILLING CODE 7555-01-P